DEPARTMENT OF COMMERCE

Census Bureau

National Advisory Committee

AGENCY: Census Bureau, Department of Commerce.

ACTION: Notice of public virtual meeting.

SUMMARY: The Census Bureau is giving notice of a virtual meeting of the National Advisory Committee (NAC or Committee). From August 17-November 15, 2022, the Census Bureau posted a Federal Register Notice to seek input from the public to develop and implement strategies to improve participation in the 2030 Census. During the NAC Spring 2023 meeting, the Committee was asked to evaluate the comments received and provide the top ten research ideas for four of five categories, which included: technology, new data sources, how we contact respondents, and respondent support services.

During this virtual meeting, the Committee will provide the top ten research ideas for the comments related to the fifth category, reaching and motivating everyone. Last minute changes to the schedule are possible, which could prevent giving advance public notice of schedule adjustments.

DATES: The virtual meeting will be held Wednesday, July 26, 2023, from 1:00 p.m. to 4:00 p.m. EDT.

ADDRESSES: Please visit the Census Advisory Committee website at https://www.census.gov/about/cac/nac/meetings/2023-07-special-session.html for the NAC meeting information, including the agenda, and how to join the meeting.

FOR FURTHER INFORMATION CONTACT: Shana Banks, Advisory Committee Branch Chief, Office of Program, Performance and Stakeholder Integration (PPSI), shana.j.banks@census.gov, Department of Commerce, Census Bureau, telephone 301-763-3815. For TTY callers, please use the Federal Relay Service at 1-800-877-8339.

SUPPLEMENTARY INFORMATION: The NAC provides technical expertise to address Census Bureau program needs and objectives. The members of the NAC are appointed by the Director of the Census Bureau. The NAC has been established in accordance with the Federal Advisory Committee Act (Title 5, United States Code, Appendix 2, Section 1009).

All meetings are open to the public. Public comments will be accepted in writing only to shana.j.banks@census.gov (subject line “NAC 2030 Federal Register Notice (FRN) Comments/Feedback Virtual Meeting Public Comment”). A brief period will be set aside during the meeting to read public comments received in advance of 12:00 p.m. EDT, July 26, 2023. Any public comments received after the deadline will be posted to the website listed in the ADDRESSES section.

Robert L. Santos, Director, Census Bureau, approved the publication of this Notice in the Federal Register.

Dated: July 6, 2023.
Mary Reuling Lenaiyasa,
Program Manager, Paperwork Reduction Act, Policy Coordination Office, U.S. Census Bureau.

[FR Doc. 2023-14640 Filed 7-10-23; 8:45 am]

BILLING CODE 3510-07-P